DEPARTMENT OF HOMELAND SECURITY

Coast Guard

33 CFR Part 117

[Docket No. USCG-2014-0053]

RIN 1625-AA09

Drawbridge Operation Regulation; Atlantic Intracoastal Waterway, West Palm Beach, FL

ACTION: Notice of deviation from drawbridge regulation.

SUMMARY: The Coast Guard has issued a temporary deviation from the operating schedule that governs the Royal Park and Southern Boulevard Bridges, Atlantic Intracoastal Waterway, mile 1022.6 and mile 1024.7, West Palm Beach, FL. These temporary operating schedules have been implemented in an effort to assist with the flow of vehicular traffic due to the Flagler Memorial Bridge being left in the open to navigation position.

DATES: This deviation is effective without actual notice from July 29, 2014 through 8 a.m. on October 31, 2014. For the purposes of enforcement, actual notice will be used from 6 a.m. on May 16, 2014, until July 29, 2014.

ADDRESSES: The docket for this deviation, [USCG-2014-0053] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this temporary deviation, call or email Mr. Michael Lieberum, Chief Operations Section, Seventh Coast Guard District, Bridge Branch; telephone 305-415-6744, email michael.b.lieberum@uscg.mil. If you have questions about viewing the docket, call Cheryl Collins, Program Manager, Docket Operations, telephone 202-366-9826.

SUPPLEMENTARY INFORMATION: Due to safety concerns with the operation of the Flagler Memorial Bridge over the Atlantic Intracoastal Waterway, mile 1021.8, West Palm Beach, FL, the FDOT has requested permission to place the Flagler Memorial Bridge in the open to navigation position which will redirect all vehicular traffic to the Royal Park and Southern Boulevard Bridges. The City of Palm Beach has requested that the operating schedule of the Royal Park Bridge be modified from the schedule published in 33 CFR 117.261(v) which required this bridge to open on the hour and half-hour. The vertical clearance of the Royal Park Bridge is 21 feet at mean high water at low steel. The temporary bridge schedule is as follows: Monday through Friday, from 6:16 a.m. until 8:14 p.m., the Royal Park Bridge will open on an hourly schedule at the quarter-hour, except from 7:16 a.m. to 9:14 a.m. and from 4:16 p.m. to 6:14 p.m. this bridge will remain closed to navigation. At all other times, including Federal Holidays, this bridge will open on the quarter-hour and three-quarter hour. The City has also requested that the Southern Boulevard Bridge be modified from the schedule published in 33 CFR 117.261(w) which required this bridge to open on the quarter hour and three quarter hour. The vertical clearance of the Southern Boulevard Bridge is 14 feet at mean high water at low steel. The temporary bridge schedule is as follows: Monday through Friday, from 7:31 a.m. to 9:29 a.m. and from 4:01 p.m. to 5:59 p.m., this bridge will remain closed to navigation. At all other times, including Federal Holidays, this bridge will open on the top and bottom of the hour. This temporary modification to the regulations will remain in effect until October 31, 2014.

The Coast Guard will inform waterway users of the change in operating schedule for this bridge through the Local Notice to Mariners. Mariners are advised to use this information in order to arrange safe transit through these bridges to minimize any delay caused by this temporary deviation.

In accordance with 33 CFR 117.35(e), the drawbridge must return to its regular operating schedule immediately following the end of the effective period of this temporary deviation. This deviation from the normal operating regulations is authorized under 33 CFR 117.35.

Dated: May 16, 2014.
Barry Dragon,
Director, Bridge Administration, Seventh Coast Guard District.

[FR Doc. 2014-17854 Filed 7-28-14; 8:45 am]

BILLING CODE 9110-04-P